DEPARTMENT OF TRANSPORTATION

National Highway Traffic Safety Administration

[Docket No. NHTSA-2007-27159]

Amendments to Highway Safety Program Guidelines

AGENCY: National Highway Traffic Safety Administration (NHTSA), Department of Transportation.

ACTION: Request for comments, highway safety program guidelines.

SUMMARY: Section 402 of title 23 of the United States Code requires the Secretary of Transportation to promulgate uniform guidelines for State highway safety programs.

NHTSA is seeking comments on proposed amendments to six (6) of the existing guidelines and one (1) new guideline to reflect program methodology and approaches that have proven to be successful and are based on sound science and program administration. The guidelines the agency proposes to revise are as follows: Guideline No. 4 Driver Education; Guideline No. 5 Non-Commercial Driver Licensing (formerly Driver Licensing); Guideline No. 7 Judicial and Court Services (formerly Traffic Courts); Guideline No. 10 Traffic Records; Guideline No. 17 Pupil Transportation Safety; and Guideline No. 21 Roadway Safety. This notice also proposes a new guideline, Guideline No. 12 Prosecutor Training and Outreach. NHTSA has developed Guideline No. 12 because it has found that conducting educational and training outreach to judges and prosecutors is an important element for law enforcement efforts to be truly effective as a deterrent to dangerous driving behaviors.

NHTSA believes the proposed revisions and additions will provide more accurate, current and detailed guidance to the States. The guidelines will be made publicly available on the NHTSA Web site.

DATES: You should submit your comments early enough to ensure that Docket Management receives them not later than 30 days after publication in the Federal Register.

ADDRESSES: You may submit comments in writing to: Docket Management, Room PL-401, 400 Seventh Street, SW., Washington, DC 20590. Alternatively, you may submit your comments electronically by logging onto the Docket Management System (DMS) Web site at http://dms.dot.gov. Click on ”Help & Information” or ”Help/Info” to view instructions for filing your comments electronically. Regardless of how you submit your comments, you should mention the docket number of this document.

FOR FURTHER INFORMATION CONTACT: The following persons at the National Highway Traffic Safety Administration, 400 Seventh Street, SW., Washington, DC 20590:

For technical and policy issues:

Susan Kirinich, Research and Program Development, telephone (202) 366-1755, facsimile (202) 366-7149.

For legal issues:

Allison Rusnak, Office of the Chief Counsel, telephone (202) 366-1834, facsimile (202) 366-3820.

SUPPLEMENTARY INFORMATION:

Background

Section 402 of title 23 of the United States Code requires the Secretary of Transportation to promulgate uniform guidelines for State highway safety programs. As the highway safety environment changes, it is necessary for NHTSA to update the guidelines to provide current information on effective program content for States to use in developing and assessing their traffic safety programs. Each of the proposed revised guidelines reflects the best science available and the real-world experience of NHTSA and the States in developing and managing traffic safety programs. NHTSA updates the guidelines periodically to address new issues and to emphasize program methodology and approaches that have proven to be effective in these program areas.

The guidelines offer direction to States in formulating their highway safety plans for highway safety efforts that are supported with section 402 and other grant funds. The guidelines provide a framework for developing a balanced highway safety program and serve as a tool with which States can assess the effectiveness of their own programs. NHTSA encourages States to use these guidelines and build upon them to optimize the effectiveness of highway safety programs conducted at the State and local levels. The revised guidelines will emphasize areas of national concern and highlight effective countermeasures. The six (6) guidelines NHTSA plans to revise along with the development of (1) one new guideline as a result of this Notice represent the second in a series of revisions to the guidelines. The Agency revised six (6) other guidelines on November 7, 2006 (71 FR 65172): Guideline No. 3 Motorcycle Safety; Guideline No. 8 Impaired Driving; Guideline No. 14 Pedestrian and Bicycle Safety; Guideline No. 15 Traffic Enforcement; Guideline No. 19 Speed Management; and Guideline No. 20 Occupant Protection. As each guideline is updated, it will include a date representing the date of its revision. The guidelines can be found in their entirety in the Highway Safety Grant Management Manual or at http://www.nhtsa.dot.gov.

Comments

Interested persons are invited to submit comments in response to this request for comments. Your comments must be written and in English. To ensure that your comments are correctly filed in the Docket, please include the docket number of this document in your comments.

Your comments must not be more than 15 pages long. (49 CFR 553.21). We established this limit to encourage you to write your primary comments in a concise fashion. However, you may attach necessary additional documents in your comments. There is no limit on the length of the attachments.

Please submit two copies of your comments, including the attachments, to Docket Management at the address given above under ADDRESSES. If you wish Docket Management to notify you upon its receipt of your comments, enclose a self-addressed, stamped postcard in the envelope containing your comments. Upon receiving your comments, Docket Management will return the postcard by mail. If you wish to submit any information under a claim of confidentiality, you should submit three copies of your complete submission, including the information you claim to be confidential business information, to the Chief Counsel, National Highway Traffic Safety Administration, 400 Seventh Street, SW., Washington, DC 20590. In addition, you should submit two copies, from which you have deleted the claimed confidential business information, to Docket Management at the address given above under ADDRESSES. When you send a comment containing information claimed to be confidential business information, you should include a cover letter setting forth the information specified in our confidential business information regulation. (49 CFR part 512.)

We will consider all comments that Docket Management receives before the close of business on the comment closing date indicated above under DATES. To the extent possible, we will also consider comments that Docket Management receives after that date.

You may read the comments received by Docket Management at the address given above under ADDRESSES. The hours of the Docket are 9 a.m. to 5 p.m., Monday to Friday, except Federal holidays. You may also see the comments on the Internet. To read the comments on the Internet, take the following steps:

• Go to the Docket Management System (DMS) Web page of the Department of Transportation (http://dms.dot.gov).

• On that page, click on “search.”

• On the next page (http://dms.dot.gov/search/), type in the five-digit docket number shown at the beginning of this document. Example: If the docket number were “NHTSA-2001-12345,” you would type “12345.” After typing the docket number, click on “search.”

• On the next page, which contains docket summary information for the docket you selected, click on the desired comments. You may download the comments.

Please note that even after the comment closing date, we will continue to file relevant information in the Docket as it becomes available. Further, some people may submit late comments. Accordingly, we recommend that you periodically check the Docket for new material.

In consideration of the foregoing, NHTSA proposes to amend the guidelines as follows.

Highway Safety Program Guideline No. 4

Driver Education

Each State, in cooperation with its political subdivisions and tribal governments, should develop and implement a comprehensive, culturally competent highway safety program, reflective of State demographics, to achieve a significant reduction in traffic crashes, fatalities and injuries on public roads. All programs should be data driven and the highway safety program should include a driver education and training program designed to educate new drivers and provide remedial training for existing drivers. This guideline describes the components that the State driver education program should include and the minimum criteria that the program components should meet.

I. Program Management

Each State should have centralized program planning, implementation and coordination to deliver comprehensive and uniform driver education. Evaluation should be used to revise existing programs, develop new programs and determine progress and success. The State Highway Safety Office (SHSO) should:

• Provide leadership, training and technical assistance to public and private providers of driver education to ensure consistency and quality;

• Identify an entity to provide oversight over driver education programs delivered within the State; and

• Evaluate the effectiveness of the State's driver education program.

II. Legislation, Regulation and Policy

Each State should enact and enforce laws and policies intended to reduce crashes caused by novice drivers. To enhance the effectiveness of driver education, States should:

• Enact Graduated Driver Licensing (GDL) laws that include three stages of licensure, and that place restrictions and sanctions on high-risk driving situations for novice drivers (i.e., nighttime driving restrictions, passenger restrictions, zero tolerance, and required safety belt use);

• Ensure that the GDL restrictions and sanctions for GDL licensure are included, adapted as necessary and enforceable for motorcycle operators;

• Develop driver education standards and guidelines to which all driver education programs must adhere to satisfy licensing requirements for novice drivers; and

• Ensure that completion of driver education programs will not reduce time required for novice drivers to proceed through a GDL system.

III. Enforcement Program

Components of a State driver education enforcement program should include:

• Visible and well-publicized law enforcement of the components of the GDL and zero tolerance laws;

• Licensing sanctions for violations of these provisions;

• State agency oversight of driver education programs to ensure delivery of approved state curriculum; and

• Administrative or financial penalties for programs in non-compliance.

IV. Driver Education and Training Program

A driver education program should be available to all youths of licensing age, and include the following criteria:

• The program is taught by instructors certified by the State as qualified for these purposes; and

• It provides each student with practice driving and instruction in at least the following:

○ Basic driving techniques including: starting, stopping, turning and basic interaction in controlled environments in light and moderate traffic;

○ Advanced driving techniques including: techniques for handling emergencies, such as skid control, braking in emergencies, and over-steering to avoid a crash;

○ Rules of the road, and other State laws and local motor vehicle laws and ordinances;

○ Critical vehicle systems and sub-systems requiring preventive maintenance;

○ Vehicle and highway features:

▪ That aid the driver in avoiding crashes;

▪ That protect the driver and passengers in crashes; and

▪ That maximize the care of the injured.

○ Signs, signals, and highway markings and highway design features that require understanding for safe operation of motor vehicles;

○ Differences in characteristics of urban and rural driving including safe use of modern expressways;

○ Safe Driving Practices including: making good driver decisions; use of occupant restraints; not driving under the influence; and dealing with fatigue, distractions and aggressive drivers; and

○ Sharing the roadway with other users, especially pedestrians, bicycles, and motorcycles, who are more physically vulnerable to injury or death in the event of a crash.

Each State should also ensure:

• That research and development programs including adequate research, development and procurement of practice driving facilities, simulators, and other similar teaching aids for both school and other driver training use;

• There is a program for adult driver training and retraining; and

• Commercial driving schools are licensed and commercial driving instructors are certified in accordance with specific criteria adopted by the State.

V. Communication Program

States should develop and implement communication strategies directed at supporting policy and program elements. The SHSO should develop a statewide communications plan and campaign that:

• Informs the public about State GDL laws;

• Identifies audiences at particular risk and develops appropriate messages;

• Provides culturally competent materials;

• Informs parents/guardians about the role of supervised driving and the State's GDL law;

• Informs novice drivers about underage drinking and zero tolerance laws (in effect in all 50 States and the District of Columbia), such as including information in manuals for new drivers and including a question about the topic on the written test for a learner's permit;

• Informs the public on the role of parental monitoring/involvement; and

• Informs the public about State guidelines and regulation of driver education.

VI. Program Evaluation and Data

The SHSO should develop a comprehensive evaluation program to measure progress toward established project goals and objectives and optimize the allocation of limited resources. The State should promote effective evaluation by:

• Supporting the analysis of police accident reports;

• Encouraging, supporting and training localities in process, impact and outcome evaluation of local programs;

• Evaluating the use of program resources and the effectiveness of existing countermeasures for the general public and high-risk populations; and

• Ensuring that evaluation results are used to identify problems, plan new programs and improve existing programs.

Highway Safety Program Guideline No. 5

Non-Commercial Driver Licensing

Each State, in cooperation with its political subdivisions and tribal governments, should develop and implement a comprehensive, culturally competent highway safety program, reflective of State demographics, to achieve a significant reduction in traffic crashes, fatalities and injuries on public roads. Each state should have a driver licensing program ensuring that every driver is adequately trained and tested, evaluated for physical and mental fitness, when appropriate, and possesses only one driver license and driver record.

I. Program Management

Each State should have a licensing agency that ensures only those qualified to operate motor vehicles obtain a valid State driver license applicable to vehicles they are authorized to operate. This agency should:

• Ensure that drivers are appropriately licensed for the vehicles they operate;

• Ensure that driver license applicants are appropriately screened for correct identity;

• Ensure that documents used to establish identity are appropriately analyzed;

• Take appropriate measures to ensure that applicants are not licensed in other states;

• Provide driver licenses that are tamper resistant to prevent fraudulent use of the document; and

• Provide driver licenses that clearly indicate if the driver is under 21 years of age.

II. Legislation, Regulation and Policy

A model driver licensing program should provide, at a minimum, that each driver:

• Hold only one license, which identifies the type(s) of vehicle(s) he or she is authorized to operate;

• Submits acceptable proof of identity in applying for an original, renewal or re-application of a driver's license;

• Passes an initial examination demonstrating his or her:

○ Ability to operate the class(es) of vehicles(s) for which he or she is licensed;

○ Ability to read and comprehend traffic signs and symbols;

○ Knowledge of laws relating to traffic (rules of the road) safe driving procedures, vehicle and highway safety features, emergency situations that arise in the operation of and other driver responsibilities; and

○ Visual acuity, which must meet or exceed State guidelines.

• Renews his/her license, in-person, periodically.

A model Graduated Driver Licensing (GDL) law should require each driver under age 18 to participate in a GDL System, a three-stage system that incrementally adds privileges for novice drivers as they gain experience driving. The three-stage process should include the following progressive steps:

○ First, the young driver receives a learner's permit that requires completion of both a minimum of 6 months driving without an at-fault crash or traffic violation and supervised driving practice in which the supervising licensed driver is age 21 or older;

○ Next, the young driver receives an intermediate, or provisional, permit that requires completion of a minimum of 6 months driving without an at-fault crash or traffic violation and imposes nighttime driving restrictions and teenage passenger restrictions; as well as adherence to State safety belt use requirements;

○ The third and final stage is full licensure (with maximum blood alcohol limits of .02 until age 21); and

○ The driver should receive driver education that meets standards set by the State that are related to the state driving manual and driving test and, to the greatest degree possible, increases the safety performance of new drivers. (Under no circumstance should driver education reduce the time required to pass through the GDL system.)

III. Driver Fitness

Each State should have:

• A system that provides medical evaluation of persons whom the driver licensing agency has reason to believe has mental or physical conditions that might impair their driving ability;

• A procedure that will keep the driver license agency informed of all licensed drivers who are currently applying for or receiving any type of tax, welfare or other benefits or exemptions for the blind or visually impaired beyond established state vision requirements;

• A medical advisory board or equivalent allied health professional unit composed of qualified personnel to advise the driver license agency on medical criteria and vision guidelines; and

• Protection from civil liability for individuals who report, in good faith, potentially at-risk drivers to the licensing authority.

IV. Motorcycle Operator Licensing

States should require every person who operates a motorcycle on public roadways to pass an examination designed especially for motorcycle operation and to hold a license endorsement specifically authorizing motorcycle operation. Each State should have a motorcycle licensing system that requires:

• A motorcycle operator's manual that contains essential information on reducing the risks associated with riding a motorcycle;

• A motorcycle license examination, including knowledge and skill tests, and State licensing medical criteria;

• License examiner training specific to testing of motorcyclists;

• Motorcycle license endorsement;

• Cross referencing of motorcycle registrations with motorcycle licenses to identify motorcycle owners who do not have the proper endorsement;

• Motorcycle license renewal requirements;

• Learner's permits issued for a period of at least 90 days and the establishment of limits on the number and frequency of learner's permits issued per applicant to encourage each motorcyclist to get full endorsement; and

• Penalties for violation of motorcycle licensing requirements.

V. Driver Records, Data and Evaluation

Each State should maintain a driver control record on each licensed driver that includes identification information, principle residence, and driver history. In addition to the historical aspect, the traffic records system should be conducive to:

• Timely, accurate, and complete entry of data into the system;

• Ease of accessibility to the system to give timely, accurate and complete information on drivers for users of the system. Functional users may include courts, administrative/legal personnel, motor vehicle administration, law enforcement, research and development and private citizens etc.;

• Real-time availability of data available to provide DMV personnel and other system users with a rapid-response system for the information requested on standard and priority requests for eligibility of an applicant for issuance of a driver license;

• Ad-hoc reporting for statistical and other research purposes;

• Real time identification of problem drivers for enforcement or other operational countermeasures; and

• Medical restriction or suspension/revocation information.

Each license should be issued for a specific term, and should be renewed to remain valid. At time of issuance or renewal each driver's record should be checked.

There should be a driver improvement program to identify problem drivers for record review and other appropriate actions designed to reduce the frequency of their involvement in traffic crashes or violations.

The non-commercial driver licensing program should be periodically evaluated by the State. The evaluation should, among other issues, attempt to ascertain the extent to which driving without a license occurs.

VI. Communication Program

States should develop and implement communication strategies directed at supporting policy and program elements. The SHSO should develop a statewide communications plan and campaign that:

• Informs the public about State licensing requirements;

• Identifies audiences at particular risk and develops appropriate messages;

• Provides information about driver fitness requirements and mental or physical conditions that might impair driving abilities;

• Informs motorcycle registrants of the need to obtain an appropriate motorcycle endorsement or license;

• Provides culturally competent materials;

• Informs parents/guardians about the role of supervised driving and the State's GDL law; and

• Informs novice drivers about underage drinking and zero tolerance laws (in effect in all 50 States and the District of Columbia), such as including information in manuals for new drivers and including a question about the topic on the written test for a learner's permit.

Highway Safety Program Guideline No. 7

Judicial and Court Services

Each State, in cooperation with its political subdivisions and tribal governments, should develop and implement a comprehensive, culturally competent highway safety program, reflective of State demographics, to achieve a significant reduction in traffic crashes, fatalities and injuries on public roads. Each State should have a comprehensive judicial services program as part of its overall highway safety program. Such judicial services programs should support courts in the competent and effective adjudication of both administrative and statutory law cases. Judicial services programs should, consistent with ethical and professional requirements, promote judicial outreach activity to reduce traffic crashes and resultant fatalities and injury. This document describes the four key components of state judicial services programs and the specific activities needed to implement those components. Additional information on judicial outreach is addressed in Highway Safety Guideline No. 8, Impaired Driving.

I. Program Management

Program planning, implementation, and coordination are essential for achieving and sustaining State traffic enforcement and adjudication functions. The State Highway Safety Office (SHSO), in conjunction with State and local court administrators, chief judges, and judicial educators should ensure that State traffic safety programs are well planned and coordinated. State SHSOs should provide leadership, training and technical assistance to:

• Implement and integrate regular traffic law and safety-related judicial education in judicial education programs for all judges;

• Generate broad-based support for traffic safety programs by informing all stakeholders, including court administrators and the judges they serve, of comprehensive highway safety plans for traffic enforcement;

• Coordinate traffic safety programs to include Commercial Motor Vehicle (CMV) safety activities such as the Motor Carrier Safety Assistance Program;

• Promote the dissemination of NHTSA-supported judicial traffic safety and education courses through coordination with State judicial educators and nationally based institutions such as the National Center For State Courts, National Council of Juvenile and Family Court Judges, and the National Judicial College; and

• Support the development and ethical implementation of judicial education programs for state, local, administrative, and tribal courts that will accomplish the following objectives:

○ Utilize enabling legislation and regulations to provide the public with effective and efficient court services;

○ Provide the impetus for judges to be thoroughly educated on all facets of motor vehicle law;

○ Develop cooperative relationships with other government branches, agencies, and entities, as well as community organizations, and traffic safety stakeholders; and

○ Establish qualitative and quantitative performance measures by which the delivery of services can be evaluated.

II. Resource Management

The SHSO should coordinate with the courts to develop and maintain comprehensive management plans that identify and deploy those resources necessary to effectively provide efficient traffic law-related services to the public. The resource management plans should include specific components concerning the allocation of funding, personnel, and facilities. Comprehensive management plans should include:

• Periodic assessment of traffic law-related service demands and the resources needed to serve the needs of the public;

• Development of traffic law-related court service resource management plans that address budgetary requirements, staff allocation, and facilities requirements; and

• Employment of efficient accounting and data processing systems to facilitate prompt and accurate generation, retrieval, and sharing of information and records.

III. Training and Education

Training and education are essential to support and maintain the delivery of traffic law-related services by the judicial branch of government. To be effective adjudicators, and serve the needs of the public, judges must receive regular education and training of the highest caliber. Judicial education and training should be promoted and, where appropriate, presented by the SHSO or other training entities with experienced faculties in the area of traffic safety, including law and procedure. Judicial education and training should be:

• Adequately funded and where possible compulsory as a requirement to maintaining service in office;

• Provided by State or nationally based judicial education and training entities with experienced faculties in area of traffic-related law and procedure;

• Inclusive of education components consistent with models developed by the American Bar Association, for example the Code of Judicial Ethics and the Rules of Professional Conduct;

• Inclusive of case management components so as to foster productivity and the prompt and efficient disposition of cases;

• Specialized as to curriculum so as to address the needs of both statutory and administrative judges as well as hearing officers; and

• Assessed regularly so as to insure that education components address specialized traffic enforcement skills, techniques, or programs such as DWI/Drug Courts.

IV. Data and Evaluation

The SHSO, in conjunction with court administrators should develop a comprehensive evaluation program to measure progress toward established project goals and objectives. Utilizing comprehensive evaluation programs, the SHSO should effectively plan and implement statewide, county, local, and tribal traffic safety programs. Such programs should have as objectives the optimization of limited resource allocation and should measure the impact of traffic enforcement on court resources. Data that are collected should include case disposition summaries and reports, and other relevant workload information. Court administrators should:

• Include evaluation components in initial program planning so as to ensure that data will be available for evaluation;

• Insure that adequate resources and personnel are allocated to program planning and data collection;

• Regularly report results of program evaluations to project and program managers, legislative decision-makers, and to the public;

• Utilize results to guide future activities and to assess in justifying resources to governing bodies;

• Conduct surveys to assist in determining court and program effectiveness, including surveys that measure public knowledge and attitudes about court programs;

• Evaluate the effectiveness of services provided in support of priority safety programs; and

• Maintain and report court generated data to appropriate repositories through the use of effective records programs that:

○ Provide records rapidly and accurately;

○ Provide routine compilations of data for management use in the decision-making process;

○ Provide data for operational planning and execution;

○ Interface with a variety of data systems, including statewide traffic safety records systems that are accessible by other State and local governmental entities, agencies and courts;

○ Provide for the evidentiary integrity of information so as to insure its admissibility in subsequent court and administrative hearing proceedings; and

○ Work with court administrators to use the traffic court functional standards that are available through the National Center for State Courts.

Highway Safety Program Guideline No. 10

Traffic Records

Each State, in cooperation with its political subdivisions and tribal governments, should implement a traffic records system (TRS) to support highway and traffic safety decision making and long-range transportation planning. A complete TRS is necessary for identifying the locations and causes of crashes, for planning and implementing countermeasures, for operational management and control, and for evaluating highway safety programs and improvements. This guideline describes the components that a State TRS program should include and the criteria that the program components should meet.

I. Traffic Records System Information Components

A TRS has been defined as a virtual set of independent real systems (e.g., driver conviction records, crash records, roadway data, etc.), which collectively form the information base for the management of the highway and traffic safety activities of a State. An updated concept of a TRS encourages States to take a global approach and work toward compiling data into a unified, accessible resource. Sharing and integrating data makes such a system possible, without necessarily duplicating costly and time-consuming tasks such as data entry. Achieving integrated access to data without bringing all the data into a single database is a goal of the TRS. The traffic records system should consist of the following major components:

A. The Crash Data Component documents the time, location, environment, and characteristics (e.g., sequence of events, rollover, etc.) of a crash. It contains basic information about every reportable (as defined by State statute) motor vehicle crash on any public roadway in the State. Through links to other TRS components, the Crash Data Component identifies the roadways, vehicles, and people (e.g., drivers, occupants, pedestrians) involved in the crash. These data help to document the consequences of the crash (e.g., fatalities, injuries, property damage, and violations charged), support the analysis of crashes in general, and the analysis of crashes within specific categories defined by:

• Person characteristics (e.g., age or gender);

• Location characteristics (e.g., roadway type or specific intersections);

• Vehicle characteristics (e.g., condition and legal status); and

• The interaction of various components (e.g., time of day, day of week, weather, driver actions, pedestrian actions, etc.)

B. The Roadway Data Component includes roadway location, identification, and classification, as well as a description of a road's total physical characteristics and usage. These attributes are tied to a location reference system. Linked safety and roadway information are valuable components that support a State's construction and maintenance program development. This roadway information should be available for all public roadways, including local roads.

The State Department of Transportation (State DOT) typically has custodial responsibility for the Roadway Data Component. This component includes various enterprise-related files such as:

Roadway Inventories

• Pavement

• Bridges

• Intersection

Roadside Appurtenances

• Traffic control devices

• Guard rails

• Barriers

Traffic

• VMT

• Travel by vehicle type

Other

• GIS

• LRS

• Project inventory

C. The Driver Data Component includes information about the State's population of licensed drivers as well as information about convicted traffic violators who are not licensed in that State. Information about persons licensed by the State should include: personal identification, driver license number, type of license, license status, driver restrictions, convictions for traffic violations in the State and the history of convictions for critical violations in prior States, crash history (whether or not cited for a violation), driver improvement or control actions, and driver education data.

Custodial responsibility for the Driver Data Component usually resides in a State Department or Division of Motor Vehicles (DMV). Some commercial vehicle operator-related functions may be handled separately from the primary custodial responsibility for driver data. The structure of driver databases typically is oriented to individual “customers.”

D. The Vehicle Data Component includes information on the identification and ownership of vehicles registered in the State. Data should be available regarding vehicle make, model, year of manufacture, body type, and vehicle history (including odometer readings) in order to produce the information needed to support analysis of vehicle-related factors that may contribute to a State's crash experience. Such analyses would be necessarily restricted to crashes involving in-State registered vehicles only.

Custodial responsibility for the vehicle data usually resides in a State Department or Division of Motor Vehicles. Some commercial vehicle-related functions may be handled separately from the primary custodial responsibility for all other vehicle data. The structure of vehicle databases typically is oriented to individual “customers.”

E. The Citation/Adjudication Data Component, which identifies citation/arrest and adjudication activity of the State, includes information that tracks a citation from the time of its distribution to a law enforcement officer, through its issuance to an offender, its disposition and the posting of conviction in the driver history database. Case management systems, law enforcement records systems, and DMV driver history systems should share information to support:

• Citation tracking;

• Case tracking;

• Disposition reporting; and

• Specialized tracking systems for specific types of violators (e.g., DUI tracking systems).

Information should be available to identify the type of violation, location, date and time, the enforcement agency, court of jurisdiction, and final disposition. Similar information for warnings and other motor vehicle incidents that would reflect enforcement activity are also useful for highway safety purposes and should be available at the local level.

The information should be used for determining the level of enforcement activity in the State, for accounting and controlling of citation forms, and for detailed monitoring of court activity regarding the disposition of traffic cases.

Custodial responsibility for the multiple systems that make up the Citation/Adjudication Data Component should be shared among local and State agencies, with law enforcement, courts, and the State Division or DMV sharing responsibility for some files (e.g., portions of the citation tracking system). State-level agencies should have responsibility for managing the law enforcement information network (e.g., a criminal justice information agency), for coordinating and promoting court case management technology (e.g., an administrative arm of the State Supreme Court), and for assuring that convictions are forwarded to the DMV and actually posted to the drivers' histories (e.g., the court records custodian and the DMV).

F. The Statewide Injury Surveillance System (SWISS) Data Component typically incorporates pre-hospital (EMS), trauma, emergency department (ED), hospital in-patient/discharge, rehabilitation and morbidity databases to track injury causes, magnitude, costs, and outcomes. Often, these systems rely upon other components of the TRS to provide information on injury mechanisms or events (e.g., traffic crash reports). The custodial responsibility for various files within the SWISS typically is distributed among several agencies and/or offices within a State Department of Health.

This system should allow the documentation of information that tracks magnitude, severity, and types of injuries sustained by persons in motor vehicle related crashes. Although traffic crashes cause only a portion of the injuries within any population, they often represent one of the more significant causes of injuries in terms of frequency and cost to the community. The SWISS should support integration of the injury data with police reported traffic crashes and make this information available for analysis to support research, public policy, and decision making.

II. Traffic Records System Information Quality

A State's traffic records information should be maintained in a form that is of high quality and readily accessible to users throughout the State. Performance-based measures should be quantifiable and should be established for each attribute of each component, e.g., the amount of elapsed time from initial data collection until entry in the traffic records system, the level of accuracy and completeness the data must meet in order to pass edit and validation checks during data entry, the level of adoption of various standards and guidelines, etc. The definition of each performance-based measure and its relative significance may vary for each of the State's TRS data components.

The quality of a State's traffic records information is determined by the following attributes:

• Timeliness—information should be available within a timeframe to be meaningful for effective analysis of a State's highway safety programs, and for efficient conduct of each custodial agency's business and mission;

• Consistency—the information should be consistent with nationally accepted and published guidelines and standards (e.g., MMUCC, NEMSIS), and data should be collected on uniform forms that are prescribed by the State for use by all jurisdictions;

• Completeness—the information should be complete in terms of all the people, events, things, or places represented by the records in the various components, and it should be complete in terms of all the variables required to be collected on those people, events, things, or places; The information should be accurate and should be achieved by the application of commonly used quality control methods; Inaccurate data should be returned to the reporting source for correction;

• Accuracy—the information should be accurate as determined by quality control methods to ensure accurate information is contained on individual reports (e.g., validity and consistency checks in the data capture and data entry processes and feedback to jurisdictions submitting inaccurate reports);

• Accessibility—the information should be readily and easily accessible to the principal users of the traffic records system components, including both direct access (automated) and the ability to obtain periodic (standard) reports as well as reports and data by special request; and

• Data Integration—information in any traffic records system component should be capable of being linked with any other component through the use of common data variables where possible and permitted by law.

III. Uses of a Traffic Records System

The purpose of a State's traffic records system is to establish a base of useful information and data. This includes operational personnel, program managers, program analysts, researchers, policy makers, and the public. To be of optimal value, the system should provide for the efficient flow of data to support a broad range of traffic safety and other activities, in particular the following:

• Problem Identification

Problem identification is the process of determining the locations and causes of crashes and their outcomes and of selecting those sites and issues that represent the best opportunity for highway safety improvements;

• Research and Program Development

The traffic records system should provide information to identify safety problems, trends, and baseline measures essential for data-driven planning decisions;

• Policy Development

The traffic records system should provide information to permit informed decisions in setting highway safety policy, including State Highway Safety Plans.

• Analytic Resources Access

Data users, and decision makers in particular, should have access to resources including skilled analytic personnel and easy to use software tools to support their needs. These tools should be specifically designed to meet needs such as addressing legislative issues (barriers as well as new initiatives), program and countermeasure development, management, and evaluation, as well as meeting all reporting requirements.

• Public Access to Data

The TRS should be designed to give the public or general non-government user reasonable access to data files, analytic results, and resources, but still meet State and Federal privacy and security standards.

• Data Use and Improvement

The TRS should be viewed as more than a collection of data repositories, and as a set of processes, methods, and component systems. Knowledge of how these data are collected and managed, along with where the bottlenecks and quality problems arise, is critical to users understanding proper ways to apply the data.

IV. Traffic Records System Management

The development and management of traffic safety programs is a systematic process with the goal of reducing the number and severity of traffic crashes. This data-driven process ensures that all opportunities to improve highway safety are identified and considered for implementation. This process can be achieved through the following initiatives:

Traffic Records Coordinating Committee (TRCC)

The State should form a TRCC whose membership includes, among others, managers, collectors, and users of traffic records and public health and injury control data systems. The TRCC should have the authority to approve the State's Strategic Plan for Traffic Records Improvements. The TRCC should also:

• Represent all stakeholders; Each stakeholder must have support from the top management of the representative agency;

• Have the authority to review any of the State's highway safety data and traffic records systems and to review any proposed changes to such systems prior to implementation;

• Provide a forum for the discussion of highway safety data and traffic records issues and report on any such issues to the agencies and organizations in the State that create, maintain and use highway safety data and traffic records;

• Represent the interests of the agencies and organizations within the traffic records system to outside organizations; and

• Review and evaluate new technologies to keep the highway safety data and traffic records system up-to-date.

Strategic Planning

The TRS should support the traffic safety strategic planning process that helps State and local data owners identify and support their overall traffic safety program needs and addresses the changing needs for information over time.

Data Integration

States should integrate data and expand their linkage opportunities to track traffic safety events among data files. Data integration should be addressed through the following:

• Create and Maintain a System Inventory;

• Support Centralized Access to Linked Data;

• Meet Federal Reporting Requirements such as FARS, MCMIS/SafetyNet, HPMS, and others;

• Support Electronic Data Sharing; and

• Adhere to State and Federal Privacy and Security Standards.

Highway Safety Program Guideline No. 12

Prosecutor Training and Outreach

Each State, in cooperation with its political subdivisions and tribal governments, should develop and implement a comprehensive, culturally competent highway safety program, reflective of State demographics, to achieve a significant reduction in traffic crashes, fatalities and injuries on public roads. All programs should include a comprehensive prosecutorial training and outreach program which should support prosecutors in the competent, effective and ethical prosecution of both criminal and administrative cases. Moreover, prosecutorial training and outreach programs should be consistent with both ethical and professional requirements as well as training and technical assistance needs of prosecutors and should promote prosecutorial outreach activity to reduce traffic crashes and resulting fatalities and injuries. This guideline describes the key components that a State outreach program should include and the minimum criteria that the program components should meet. Additional information on prosecutor outreach is addressed in Highway Safety Guideline No. 8, Impaired Driving.

I. Program Management

Program planning, implementation and coordination are essential for achieving and sustaining high quality State traffic enforcement and prosecution functions. The State Highway Safety Office (SHSO), in conjunction with State prosecutor associations, Prosecutor Coordinators and Traffic Safety Resource Prosecutors (TSRP) should ensure that State traffic safety programs are comprehensive, well planned and coordinated. State SHSOs should provide leadership, training and technical assistance to their State's prosecutors. In doing so, the SHSOs should:

• Communicate and coordinate with State prosecutor coordinators and TSRPs regarding comprehensive highway safety plans for traffic enforcement so they can generate broad-based prosecutorial support for traffic safety programs;

• Assist State prosecutor coordinators and TSRPs in implementing regular traffic law and safety-related prosecutor training programs;

• Provide support and assistance to State prosecutor coordinators and TSRPs for training and technical assistance that prosecutors need to effectively prosecute impaired driving and other traffic related cases; and

• Evaluate the delivery of training and technical assistance through established qualitative and quantitative measures.

II. Resource Management

The SHSO should assist and encourage prosecutors to develop and maintain comprehensive management plans that identify and deploy those resources necessary to provide efficient traffic law-related services that include:

• Periodic assessment of traffic law-related service demands and the resources needed to serve the needs of prosecution and the public.

• Development of traffic law-related prosecutor resource management plans that address budgetary requirements, staff allocation, and facilities requirements.

• Employment of efficient accounting and data processing systems to facilitate prompt and accurate generation, retrieval, and sharing of information and records.

III. Training and Technical Assistance

Training and technical assistance are essential to support the delivery of high quality traffic law-related prosecution. To effectively serve the needs of law enforcement, victims and the public, prosecutors must receive regular, consistent training and have available to them individuals who can provide technical assistance in a competent and efficient manner. To this end, the SHSO should:

• Encourage the implementation of the TSRP program;

• Provide Prosecutor Coordinators and TSRPs with advanced education and training in area of traffic-related law and procedure so as to enhance delivery of training and technical assistance to local prosecutors, law enforcement officers, advocacy groups, and other traffic safety professionals;

• Assist and support prosecutor coordinators in providing traffic law and safety-related training programs to the State's prosecutors;

• Include development and delivery of specialized curriculum to address the needs of both experienced and inexperienced prosecutors handling complex impaired driving and other traffic prosecutions;

• Encourage consistent training and technical assistance through the prosecutor coordinators to address high turnover rates in prosecutor offices; and

• Include case management components to foster prompt and effective prosecution of traffic cases.

IV. Data and Evaluation

The SHSO, in conjunction with the prosecutor coordinator and the TSRP, should develop a comprehensive evaluation program to measure progress toward established project goals and objectives. Utilizing comprehensive evaluation strategies, the SHSO should effectively plan and implement statewide, county, and local traffic safety training programs. Collected data should include training programs attended, technical assistance requested and received, and other workload information. The evaluation results should be used to maximize limited resources and measure the impact of such training and assistance on prosecutorial resources and the ability to effectively prosecute traffic cases. The SHSO should make sure that Prosecutor Coordinators or TSRPs:

• Include evaluation components in initial program planning to ensure that data will be available for analysis;

• Ensure that adequate resources and personnel are allocated to program planning and data collection;

• Regularly report results of program evaluations to project and program managers, and legislative decision-makers;

• Utilize results to guide future activities and assess resource allocation; and

• Evaluate the effectiveness of services provided in support of priority traffic safety programs.

Highway Safety Program Guideline No. 17

Pupil Transportation Safety

Each State, in cooperation with its political subdivisions and tribal governments, should establish a State highway safety program for pupil transportation safety including the identification, operation, and maintenance of buses used for carrying students; training of passengers, pedestrians, and bicycle riders; and administration. The purpose of this guideline is to provide strategies for minimizing, to the greatest extent possible, the danger of death or injury to school children while they are traveling to and from school and school-related events.

I. Program Management

There should be a single State agency with primary administrative responsibility for pupil transportation that employs at least one full-time professional to carry out these responsibilities. The responsible State agency should develop an operating system for collecting and reporting information needed to improve the safety of operating school buses and school-chartered buses. Each State should establish procedures to meet the following recommendations for identification and equipment of school buses. All school buses should:

• Be identified with the words “School Bus” printed in letters not less than eight inches high, located between the warning signal lamps as high as possible without impairing visibility of the lettering from both front and rear, and have no other lettering on the front or rear of the vehicle, except as required by Federal Motor Vehicle Safety Standards (FMVSS), 49 CFR Part 571;

• Be painted National School Bus Glossy Yellow, in accordance with the colorimetric specification of National Institute of Standards and Technology (NIST) Federal Standard No. 595a, Color 13432, except that the hood should be either that color or lusterless black, matching NIST Federal Standard No. 595a, Color 37038;

• Have bumpers of glossy black, matching NIST Federal Standard No. 595a, Color 17038, unless, for increased visibility, they are covered with a reflective material;

• Comply with all FMVSS applicable to school buses at the time of their manufacture;

• Be equipped with safety equipment for use in an emergency, including a charged fire extinguisher that is properly mounted near the driver's seat, with signs indicating the location of such equipment;

• Be equipped with device(s) demonstrated to enhance the safe operation of school vehicles, such as a stop signal arm;

• Be equipped with a system of signal lamps that conforms to the school bus requirements of FMVSS No. 108, 49 CFR 571.108;

• Have a system of mirrors that conforms to the school bus requirements of FMVSS No. 111, 49 CFR 571.111; and

• School-chartered buses should comply with all applicable Federal Motor Carrier Safety Regulations (FMCSR) and FMVSS.

Any school bus meeting the recommendations above that is permanently converted for uses other than transporting children to and from school should be painted a color other than National School Bus Glossy Yellow, and should have the stop arms and school bus signal lamps removed.

School buses, while being operated on a public highway and transporting primarily passengers other than school children, should have the words “School Bus” covered, removed, or otherwise concealed, and the stop arm and signal lamps should not be operated.

II. Operations

Each State should establish procedures to meet the following recommendations for operating school buses and school-chartered buses:

• Personnel

○ Each State should develop a plan for selecting, training, and supervising persons whose primary duties involve transporting school children in order to ensure that such persons will attain a high degree of competence in, and knowledge of, their duties;

○ Every person who drives a school bus or school-chartered bus occupied by school children should, as a minimum:

▪ Have a valid State driver's license to operate such a vehicle. All drivers who operate a vehicle designed to transport 16 or more persons (including the driver) are required by the Federal Motor Carrier Safety Administration's (FMCSA) Commercial Driver's License Standards (49 CFR Part 383) to have a valid commercial driver's license;

▪ Meet all physical, mental, moral and other requirements established by the State agency having primary responsibility for pupil transportation, including requirements related to drug and/or alcohol misuse or abuse; and

▪ Meet the physical qualification standards for drivers under the FMCSR of the FMCSA, 49 CFR Part 391, if the driver or the driver's employer is subject to those regulations.

• Vehicles

○ Each State should enact legislation that provides for uniform procedures regarding school buses stopping on public highways for loading and discharge of children. Public information campaigns should be conducted on a regular basis to ensure that the driving public fully understands the implications of school bus warning signals and requirements to stop for school buses that are loading or discharging school children. Schools should work with local law enforcement agencies to enforce laws against passing a stopped school bus that is loading or unloading students;

○ Each State should establish policies to ensure that school districts are aware of the federal statutory provision 49 U.S.C. Section 30112(a), as amended by Section 10309(b) of SAFETEA-LU (P.L. 109-59), prohibiting the purchase by schools and school systems of new non-conforming vehicles for school transportation purposes, and prohibit operation of any school bus or other vehicle used for school transportation purposes unless it meets the FMVSSs for school buses;

○ Each State should minimize highway use hazards to school bus and school-chartered bus occupants, other highway users, pedestrians, bicycle riders and property. Efforts to minimize such hazards should include, but not be limited to:

▪ Planning safe routes and annually reviewing routes for safety hazards;

▪ Planning routes to ensure the most effective use of school buses and school-chartered buses to ensure that passengers are not standing while these vehicles are in operation;

▪ Providing loading and unloading zones off the main traveled part of highways, whenever it is practical to do so;

▪ Establishing restricted loading and unloading areas for school buses and school-chartered buses at or near schools;

▪ Ensuring that school bus operators, when stopping on a highway to take on or discharge children, adhere to State regulations for loading and discharging including the use of signal lamps;

▪ Replacing school buses manufactured before April 1, 1977, with buses that meet the current FMVSSs for school buses, and not chartering any pre-1977 school buses; and

▪ Prohibiting public or private schools from purchasing school buses built prior to April 1, 1977 for school transportation or school-related events.

○ Use of amber signal lamps to indicate that a school bus is preparing to stop to load or unload children is at the option of the State. Use of red warning signal lamps as specified in this guideline for any purpose or at any time other than when the school bus is stopped to load or discharge passengers should be prohibited; and

○ When school buses are equipped with stop arms, such devices should be operated only in conjunction with red warning signal lamps, when vehicles are stopped.

• Seating

○ Children are protected in large school buses by compartmentalization, a passive occupant protection system. This provides a protective envelope consisting of strong, closely-spaced seats that have energy-absorbing padded seat backs that help to distribute and reduce crash forces. Compartmentalization is most effective when occupants are fully seated within the bus seat. Seating should be provided that will allow each occupant to sit on a school bus seat without any part of his or her body extending into the aisle;

○ There should be no auxiliary seating accommodations such as temporary or folding jump seats in school buses;

○ Standing while school buses and school-chartered buses are in motion should not be permitted. Routing and seating plans should be coordinated to eliminate passengers standing when a school bus or school-chartered bus is in motion;

○ Drivers of school buses and school-chartered buses should be required to wear occupant restraints whenever the vehicle is in motion;

○ Passengers in school buses and school-chartered buses with a gross vehicle weight rating (GVWR) of 10,000 pounds or less should be required to wear occupant restraints (where provided) whenever the vehicle is in motion. Occupant restraints should comply with the requirements of FMVSS Nos. 208, 209 and 210, as they apply to multipurpose vehicles;

○ Transporting pre-school age children in a school bus.

▪ Each child should be transported in a Child Safety Restraint System, suitable for the child's weight and age, that meets applicable FMVSSs;

▪ Each child should be properly secured in the Child Safety Restraint System; and

▪ The Child Safety Restraint System should be properly secured to the school bus seat, using anchorages that meet FMVSSs.

• Emergency exit access

○ Baggage and other items transported in the passenger compartment should be stored and secured so that the aisles are kept clear and the door(s) and emergency exit(s) remain unobstructed at all times; and

○ When school buses are equipped with interior luggage racks, the racks should be capable of retaining their contents in a crash or sudden driving maneuver.

• Vehicle maintenance. Each State should establish procedures to meet the following recommendations for maintaining buses used to carry school children:

○ School buses should be maintained in safe operating condition through a systematic preventive maintenance program;

○ All school buses should be inspected at least semiannually. In addition, school buses and school-chartered buses subject to the FMCSR of FMCSA should be inspected and maintained in accordance with those regulations (49 CFR Parts 393 and 396); and

○ School bus drivers should be required to perform daily inspections of their vehicles, and the safety equipment thereon (especially fire extinguishers), and to report promptly and in writing any problems discovered that may affect the safety of the vehicle's operation or result in the vehicle's mechanical breakdown. Driver vehicle inspection reports for school buses and school-chartered buses subject to the FMCSR of FMCSA should be completed in accordance with 49 CFR 396.11.

III. Other Elements of Pupil Transportation Safety

• At least once during each school semester, each pupil transported from home to school in a school bus should be instructed in safe riding practices, proper loading and unloading techniques, proper street crossing to and from school bus stops and should participate in supervised and timed emergency evacuation drills. Prior to each departure, each pupil transported on an activity or field trip in a school bus or school-chartered bus should be instructed in safe riding practices and the location and operation of emergency exits;

• Parents and school officials should work together to identify and select safe pedestrian and bicycle routes for the use of school children; (See Guideline No. 14).

• All school children should be instructed in safe transportation practices for walking to and from school. For those children who routinely walk to school, training should include preselected routes and the importance of adhering to those routes;

• Children riding bicycles to and from school should receive bicycle safety education, be required to wear bicycle safety helmets, and not deviate from preselected routes;

• Local school officials and law enforcement personnel should work together to establish crossing guard programs;

• Local school officials should investigate programs that incorporate the practice of escorting students across streets and highways when they leave school buses. These programs may include the use of school safety patrols or adult monitors;

• Local school officials should establish passenger vehicle loading and unloading points at schools that are separate from the school bus loading zones; and

• Before chartering any vehicle or motor coach for school activity purposes, schools should check the safety record of charter bus companies through the FMCSA Safety and Fitness Electronic Records System. Schools should also consider using a multi-function school activity bus in place of charter buses where feasible. Schools should also consider using a multi-function school activity bus (MFSAB) in place of a charter bus. A MFSAB is not required to be equipped with traffic control devices (i.e., flashing lights and stop arm). These buses are not intended for the roadside picking up and dropping off of children during service between home and school. They are intended for use by schools and other institutions that need transportation services for school activity trips or for other coordinated transportation activities.

IV. Program Evaluation

The pupil transportation safety program should be evaluated at least annually by the State agency having primary administrative responsibility for pupil transportation.

V. Definitions

• A “bus” is a motor vehicle designed for carrying more than 10 persons (including the driver);

• A “school bus” is a “bus” that is used for purposes that include carrying students to and from school or related events on a regular basis, but does not include a transit bus or a school-chartered bus;

• A “school-chartered bus” is a “bus” that is operated under a short-term contract with State or school authorities who have acquired the exclusive use of the vehicle at a fixed charge to provide transportation for a group of students to a special school-related event;

• A “multi-function school activity bus” is a school bus whose purposes do not include transporting students to and from home or school bus stops;

• “Federal Motor Carrier Safety Regulations (FMCSR)” are the regulations of the Federal Motor Carrier Safety Administration (FMCSA) for commercial motor vehicles in interstate commerce, including buses with a gross vehicle weight rating (GVWR) or gross vehicle weight greater than 10,000 pounds; designed or used to transport more than 8 passengers (including the driver) for compensation; or designed or used to transport more than 15 passengers (including the driver), and not used to transport passengers for compensation. (The FMCSR are set forth in 49 CFR Parts 390-399.); and

• A “child safety restraint system” is any device (except a passenger system lap seat belt or lap/shoulder seat belt), designed for use in a motor vehicle to restrain, seat, or position a child who weighs less than 65 pounds.

Highway Safety Program Guideline No. 21

Roadway Safety

Each State, in cooperation with its political subdivisions and tribal governments, should develop and implement a strategic highway safety program to reduce the number and severity of traffic crashes. The plan should include roadway safety elements for highway safety activities related to the roadway environment. Section 402 funds may be used to develop and implement systems and procedures for carrying out safety construction and operation improvements but may not be used for highway construction, maintenance, or design activities, except for the installation of regulatory and warning signs on non-Federal-aid roads.

I. Program Management

The Federal Highway Administration (FHWA) provides administrative oversight for the Roadway Safety portion of the Section 402 highway safety program in close coordination with the State Highway Safety Offices (SHSO) and the State Departments of Transportation (State DOT). An effective Roadway Safety program is based on sound analyses of crash, traffic, enforcement, medical, and roadway data information and applies engineering principles in identifying highway planning, design, operations, and maintenance strategies that will reduce the number and severity of highway crashes. The SHSO should:

• Work in consultation with the DOT staff responsible for traffic engineering, motorcycle, pedestrian and bicycle programs, highway safety improvement programs, traffic records systems, commercial motor vehicle (CMV) safety, work zone safety, railroad grade crossing, design, operations, and maintenance;

• Foster ongoing dialogue among all disciplines with a vested interest in highway safety, including engineers, planners, enforcement personnel, traffic safety specialists, driver licensing administrators, railroads, emergency services, CMV safety specialists, and data specialists;

• Promote a multi-disciplinary approach to addressing highway safety issues that focuses on comprehensive multi-disciplinary solutions;

• Assist local community leaders and safety partners in managing and/or coordinating roadway safety issues; and

• Work with the DOT and the other safety partners in the development and implementation of the State's Strategic Highway Safety Plan.

II. Highway Safety Improvement Program

Additional information on the Highway Safety Improvement Program is available in Part 924, Title 23, Code of Federal Regulations and Section 148 of title 23 of the United States Code.

Each State, in cooperation with Federal, Tribal, county, other local governments, and other safety partners, shall develop and implement, on a continuing basis, a highway safety improvement program that has the overall objective of reducing the number and severity of crashes and decreasing the potential for crashes on all highways. The planning component of the Highway Safety Improvement Program shall incorporate:

• A process for collecting and maintaining a record of crashes, traffic, and highway data, including, for railroad-highway grade crossings, the characteristics of both highway and train traffic;

• A process for analyzing available data to identify highway locations, sections and elements determined to be hazardous on the basis of crash experience or crash potential;

• A process for conducting engineering studies of hazardous locations, sections, and elements to develop highway safety improvement projects; and

• A process for establishing priorities for implementing highway safety improvements including the potential reduction in the number and/or severity of crashes.

The implementation component of the Highway Safety Improvement Program in each State shall include a process for scheduling and implementing safety improvement projects in accordance with the priorities developed in the planning component.

The evaluation component of the Highway Safety Improvement Program shall include a process for determining the effect that highway safety improvement projects have in reducing the number and severity of crashes and potential crashes, including:

• The cost of, and the safety benefits derived from, the various means and methods used to mitigate or eliminate hazards;

• A record of crash experience before and after the implementation of a highway safety improvement, project; and

• A comparison of crash numbers, rates, and severity observed after the implementation of a highway safety improvement project with the crash numbers, rates, and severity expected if the improvement had not been made.

III. Training

Each State should provide training and information for State, tribal, and local agencies' engineers, technicians, and officials in the proper and appropriate use of highway, safety and traffic engineering standards, policies, guidelines, practices, studies, strategies, and techniques. This training and information should be related to established, as well as new and emerging issues.

IV. Planning, Design, Construction And Maintenance

Every State, in coordination with Federal, tribal, county and other local agencies, should have a program of highway planning, design, construction, operations, and maintenance to improve highway safety. A model program should have the following characteristics:

• A systematic process to ensure that safety is fully integrated into the transportation planning, design, construction, and maintenance processes;

• The integration of safety into the State's standards, policies, guidelines, and practices;

• Procedures to identify and correct hazard conditions within the highway right-of-way;

• Traffic control devices and other measures to ensure the guidance, warning and regulation of all road users, including approaching and traveling through work zones, in conformance with the FHWA Manual on Uniform Traffic Control Devices;

• Roadway and roadside features and operations that provide, wherever possible, for crash prevention and crash survivability;

• Procedures for incident management and congestion mitigation; and

• Post-crash activities such as emergency signing, first-responders, and access and egress for emergency vehicles.

V. Safety And Traffic Engineering Services

Each State should have a program for a comprehensive capacity building plan to provide the necessary traffic and safety expertise and staffing levels and for applying safety and traffic engineering principles and techniques, including the application of traffic control devices in conformance with the FHWA Manual on Uniform Traffic Control Devices.

A model program should have the following characteristics:

• A comprehensive resource development plan to provide the necessary safety and traffic engineering capability, including:

○ Provisions for supplying safety and traffic engineering assistance to those jurisdictions that are unable to justify a full-time traffic engineering staff;

○ Provisions for upgrading the skills of safety and traffic engineers and technicians and for providing basic instruction in safety and traffic engineering techniques to other professionals, technicians, and officials;

○ A traffic control device management system that includes the application of traffic control devices in conformance with the FHWA Manual on Uniform Traffic Control Devices as well as necessary inventories, reviews, maintenance of traffic control devices, and where appropriate, the application and evaluation of new ideas and concepts in applying traffic control devices.

• An implementation schedule that utilizes safety and traffic engineering resources to:

○ review road projects, using tools such as road safety audits and/or reviews, during the planning, design, and construction stages to detect and correct features that may lead to operational safety difficulties;

○ include the impact on motorcycles in the design factors of roadways;

○ install safety-related improvements as part of routine maintenance and/or repair activities;

○ correct conditions noted during routine operational surveillance of the roadway system to adjust rapidly for the changes in traffic and road characteristics as a means of reducing the frequency and severity of crashes;

○ conduct road safety audits and/or reviews of high crash locations and develop corrective measures;

○ conduct road safety audits and/or reviews of potentially hazardous locations—such as sharp curves, steep grades, and railroad grade crossings—and develop appropriate countermeasures;

○ identify traffic control needs and determine short- and long-range requirements;

○ evaluate the effectiveness of specific traffic control measures in reducing the frequency and severity of traffic crashes; and

○ conduct safety and traffic engineering studies to establish traffic regulations, such as fixed or variable speed limits.

VII. Communication Program/Outreach

Each State should implement a proactive roadway safety outreach program to provide critical information to the public and officials on roadway safety issues and establish communication channels among engineers, planners, enforcement personnel, emergency medical services, highway safety advocacy groups, the private sector, officials, and the general public.

VII. Evaluation

Roadway Safety programs should be annually evaluated by the State, or appropriate Federal department or agency where applicable. The evaluation results are to be included in the State's annual Highway Safety Plan Evaluation Report. Copies of the report shall be provided to the FHWA. Evaluations should include measures of effectiveness in terms of crash reduction.

Notes: The 2005 Safe, Accountable, Flexible, Efficient Transportation Equity Act: A Legacy for Users established reporting requirements for projects (primarily construction-related projects) implemented under the Highway Safety Improvement Program (See 23 U.S.C. § 148(g)). FHWA has provided guidance for the preparation of this report. Also, as part of their Strategic Highway Safety Plans, States must establish an evaluation process to analyze and assess the results achieved by their plans.

Marilena Amoni,
Associate Administrator, Research and Program Development, NHTSA.

[FR Doc. E7-1895 Filed 2-5-07; 8:45 am]

BILLING CODE 4910-59-P